DEPARTMENT OF HOMELAND SECURITY

Federal Emergency Management Agency

[Docket ID FEMA-2008-0017]

Voluntary Private Sector Accreditation and Certification Preparedness Program

AGENCY: Federal Emergency Management Agency, DHS.

ACTION: Notice of availability.

SUMMARY: The Department of Homeland Security (DHS) announces its adoption of three standards for the Voluntary Private Sector Accreditation and Certification Preparedness Program (“PS-Prep” Program). This Notice identifies the three standards and discusses generally the public comments which were received in response to the DHS's proposal to adopt these standards.

Instructions: DHS will continue to accept comments on the PS-Prep Program, the three adopted standards, or proposals to adopt any other similar standard that satisfies the Target Criteria presented in the December 24, 2008 Federal Register Notice in accordance with the instructions below. DHS will review any comments received or proposals for DHS adoption of additional standards and, when merited, will publish a Federal Register Notice providing the results of that review or notifying the public of an intention to adopt additional standards. Those interested may submit comments, identified by Docket ID FEMA-2008-0017, by one of the following methods:

• Federal Docket Management System: http://www.regulations.gov. Follow the instructions for submitting comments. (Note: This process applies to all government requests for comments—even though as in the case of PS-Prep, they may not be for regulatory purposes.)

• E-mail: FEMA-POLICY@dhs.gov. Include Docket ID FEMA-2008-0017 in the subject line of the message.

• Fax: 703-483-2999.

• Mail/Hand Delivery/Courier: Office of Chief Counsel, Federal Emergency Management Agency, 500 C Street, SW., Room 840, Washington, DC 20472-3100.

All submissions received must refer to FEMA as the recipient agency and Docket ID FEMA-2008-0017. All submissions will be posted, without change, to the Federal Docket Management System at http://www.regulations.gov, and will include any personal information you provide. Because comments are made available to the public, submitters should take caution not to include any sensitive, personal information, trade secret, or any commercial or financial information which is obtained from any person and which is deemed privileged or confidential. Submitters may wish to read the Privacy Act Notice available on the Privacy and Use Notice link on the Administration Navigation Bar of http://www.regulations.gov.

Docket: For access to the docket to read background documents or comments received, go to the Federal Docket Management System at http://www.regulations.gov. Submitted comments may also be inspected at FEMA, Office of Chief Counsel, 500 C Street, SW., Room 840, Washington, DC 20472.

Availability of the Adopted Standards: The three adopted standards are available in two ways: (1) Through the individual websites of the three respective standards development organizations (SDOs) and (2) through the FEMA public reading room.

FEMA will maintain copies of all DHS adopted standards and make them available upon request for viewing in person at FEMA's reading room, located at 500 C Street SW., Room 835, Washington, DC 20472. Due to licensing and copyright restrictions, however, these documents will be available for review only, not for copying.

FOR FURTHER INFORMATION CONTACT: Mr. Marcus Pollock, National Integration Center, National Preparedness Directorate, Protection and National Preparedness, 500 C Street, SW., Washington, DC 20472. Phone: 202-646-2801 or e-mail: FEMA-NIMS@dhs.gov.

SUPPLEMENTARY INFORMATION:

I. Background

In Title IX of the “Implementing Recommendations of the 9/11 Commission Act of 2007” (Pub. L. 110-53) codified at 6 U.S.C. 321m, Congress mandated DHS to develop and implement a Voluntary Private Sector Preparedness Accreditation and Certification Program. This program, now known as “PS-Prep,” provides a mechanism by which a private sector entity may apply to be certified by an accredited third-party that the private sector entity conforms to one or more of the preparedness standards adopted by DHS.

DHS published a Notice in the Federal Register on December 24, 2008, describing the DHS implementation of the PS-Prep Program, requesting comment on the Program and the target criteria for voluntary preparedness standards, and requesting recommendations for standards that DHS should consider. See 73 FR 79140. After reviewing the responses to the December 2008 Notice, DHS published another Notice in the Federal Register which proposed the adoption of three standards for use in the PS-Prep Program and sought public comment. See 74 FR 53286 (October 16, 2009).

II. Review of Public Comments on Standards Adoption

DHS has considered the comments gathered in response to the October 2009 Federal Register Notice, and found that there were no significant concerns expressed about the adoption of any of the proposed standards. See Section III.C of this Notice. Stakeholder comments regarding the development of the PS-Prep Program and answers to the seven questions posed in the Notice have also been reviewed and, in some cases, are continuing to be considered. Those comments will be further addressed in future communications.

III. DHS Adopts Three Initial Standards for the PS-Prep Program

A. Adoption of Three PS-Prep Standards

Based on public comments, the compliance of the proposed standards to the PS-Prep target criteria, and the design of those standards to accomplish the purposes of the PS-Prep Program, DHS has determined to move forward with the standards proposed in the October 2009 Federal Register Notice. The FEMA Administrator, as the Designated Officer for PS-Prep, hereby formally adopts the following three standards:

1. National Fire Protection Association 1600—Standard on Disaster/Emergency Management and Business Continuity Programs, 2007 and 2010 Editions

2. British Standards Institution 25999 (2007 Edition)—Business Continuity Management (BS 25999:2006-1 Code of practice for business continuity management and BS 25999:2007-2 Specification for business continuity management).

3. ASIS International SPC. 1-2009—Organizational Resilience: Security Preparedness, and Continuity Management Systems—Requirements with Guidance for Use (2009 Edition).

B. Adoption of Both the 2007 and 2010 Editions of NFPA 1600 Standard

Standards developing organizations routinely review their standards on an established schedule and provide updates as needed. Since publication of the October 2009 Notice proposing to adopt the 2007 edition of NFPA 1600 standard, the National Fire Protection Association (NFPA) has published a 2010 edition, superseding the 2007 edition. DHS reviewed the 2010 edition of NFPA 1600 and has found that it meets the PS-Prep Target Criteria. Given that entities may be in the process of implementing the 2007 edition, DHS has chosen to follow the standard industry conformity assessment practice of allowing a transition period from implementation of a previous edition of a standard to a subsequent edition.

For this reason, DHS is adopting both the 2007 and 2010 editions of NFPA 1600. DHS intends that the transition period will allow businesses that may have already implemented the 2007 edition of NFPA 1600 to be certified to that standard. Certifications based upon the 2007 edition will remain valid through the end of the period prescribed in individual certifications. After the end of that transition period, entities seeking certification to NFPA 1600 must use the 2010 version.

Subsequent versions of the two remaining standards and other standards DHS may adopt will operate on cycles that may not be uniform. DHS will review subsequent versions of already adopted standards for conformity to the target criteria and suitability for the program.

C. Discussion of Comments Received in Response to the Oct. 2009 Notice of Intent

DHS received a total of 122 comments in response to the October 2009 Federal Register Notice. Of that number, 100 comments were made in regard to the intention of DHS to adopt the three identified standards. The remaining comments concerned some other aspect of the PS-Prep Program and will be dealt with in future communications on relevant aspects of the PS-Prep Program.

The vast majority of comments related to three the standards supported DHS adoption of one or more of the standards. The largest number of comments stating any opposition to the adoption of any of the three identified standards related to BS 25999. Those comments were based on the fact that the British Standards Institution, under the auspices of which the standard was developed, was not a United States entity. That is a fact; however, DHS believes that the standard is comprehensive, meets the PS-Prep Target criteria, and satisfies the needs of the PS-Prep Program. Research by DHS indicates that several United States corporations have implemented or are implementing BS 25999. DHS further believes that the national identity of the standard setting organization is not inherently relevant to the viability of any candidate PS-Prep standard and, as indicated, has adopted BS 25999.

IV. Next Steps

A. Initiation of the PS-Prep Certification Process

Once the standards are announced, the American National Standards Institute (ANSI)—American Society for Quality (ASQ) National Accreditation Board (ANAB), the PS-Prep accrediting body, will finalize its process for accrediting third party certifying entities for the PS-Prep Program. Upon that finalization, DHS expects that preparation and accreditation of certifying entities will take an additional two to four months. DHS will announce the initiation of the availability of the PS-Prep Program certification process on the PS-Prep Program Web site.

B. Critical Infrastructure and Key Resources (CIKR) Sector-Specific Issues

DHS has made clear that it does not intend that the PS-Prep Program will create a need for a duplication of requirements for entities that wish to participate. DHS will attempt to identify regulations, guidelines, or sector codes of practice that meet portions of adopted standards and that could form the basis for compliance with PS-Prep adopted standards. To this end, the DHS Office of Infrastructure Protection (IP) will collaborate with the CIKR sectors and their respective Sector Coordinating Councils to identify such existing sector activities. IP will work with the individual CIKR sectors to develop a framework containing the identified sector-specific considerations and activities that may be used in the PS-Prep certification processes.

V. Small Business Consideration

In 6 U.S.C. 321m(b)(2)(D), DHS is required to “establish separate classifications and methods of certification for small business concerns.” The definition of “small business concerns” is that of the Small Business Act at 15 U.S.C. 632. Both previous PS-Prep Federal Register Notices have contained extensive discussions of the DHS approach to best reflect the interests of small businesses, minimize any burden associated with certification for the PS-Prep Program, and achieve the purposes of the PS-Prep Program. DHS continues to seek comments from the public and, particularly, small businesses on specific tools and means for certification of small business under the PS-Prep Program.

Dated: June 10, 2010.
W. Craig Fugate,
Administrator, Federal Emergency Management Agency.

[FR Doc. 2010-14429 Filed 6-15-10; 8:45 am]

BILLING CODE 9111-46-P